DEPARTMENT OF THE INTERIOR

Fish and Wildlife Service

[FWS-R4-R-2008-N0087; 40136-1265-0000-S3]

Wolf Island National Wildlife Refuge, McIntosh County, GA

AGENCY: Fish and Wildlife Service, Interior.

ACTION: Notice of availability; draft comprehensive conservation plan and environmental assessment; request for comments.

SUMMARY: We, the Fish and Wildlife Service (Service), announce the availability of a draft comprehensive conservation plan and environmental assessment (Draft CCP/EA) for Wolf Island National Wildlife Refuge for public review and comment. In this Draft CCP/EA, we describe the alternative we propose to use to manage this refuge for the 15 years following approval of the Final CCP.

DATES: To ensure consideration, we must receive your written comments by July 14, 2008. A meeting will be held to present the Draft CCP/EA to the public. Mailings, newspaper articles, and posters will be the avenues to inform the public of the date and time for the meeting.

ADDRESSES: Requests for copies of the Draft CCP/EA should be addressed to: Jane Griess, Project Leader, Savannah Coastal Refuges' Complex, 1000 Business Center Drive, Suite 10, Savannah, Georgia 31405; Telephone: 912/652-4415. The Draft CCP/EA may also be accessed and downloaded from the Service's Internet Site: http://southeast.fws.gov/planning. Comments on the Draft CCP/EA may be submitted to the above address or by e-mail to Mr. Randy Williams at: rwilliams@mangi.com.

FOR FURTHER INFORMATION CONTACT: Randy Williams; Telephone: 985/264-1979.

SUPPLEMENTARY INFORMATION:

Introduction

With this notice, we continue the CCP process for Wolf Island National Wildlife Refuge. We started the process through a notice in the Federal Register on October 30, 2006 (71 FR 63344).

Wolf Island National Wildlife Refuge is approximately 12 miles off the coast of Darien, Georgia, in McIntosh County. It was established on April 3, 1930, to provide protection and habitat for migratory birds. The barrier island refuge consists of Wolf Island and two smaller islands, Egg and Little Egg. More than 75 percent of the refuge's 5,126 acres are composed of saltwater marsh.

Wolf Island National Wildlife Refuge was designated a National Wilderness Area in 1975, and is maintained as such, with its primary purpose being to provide protection for migratory birds and such threatened and endangered species as the loggerhead sea turtle and the piping plover.

Background

The CCP Process

The National Wildlife Refuge System Improvement Act of 1997 (16 U.S.C. 668dd-668ee), which amended the National Wildlife Refuge System Administration Act of 1966, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act and NEPA.

Significant issues addressed in the Draft CCP/EA include: threatened and endangered species; habitat protection; neotropical migratory birds; conservation of a remnant maritime forest; visitor services (e.g., wildlife observation, wildlife photography, and environmental education and interpretation); funding and staffing; cultural resources; land acquisition; and invasive species management.

CCP Alternatives, Including Our Proposed Alternative

We developed three alternatives for managing the refuge and chose Alternative C as the proposed alternative. A full description of each alternative is in the Draft CCP/EA. We summarize each alternative below.

Alternative A—No Action Alternative

Wolf Island National Wildlife Refuge is part of the Altamaha River Ecosystem and is an important part of the Western Hemisphere Shorebird Reserve Network. As such, the refuge is of significant importance to migrating and wintering shorebirds and has been designated as part of critical habitat for the Great Lakes population of the endangered piping plover. Under Alternative A, management of the refuge would continue at its current level of participation in these initiatives throughout the 15-year duration of the CCP. Current approaches to managing wildlife and habitats, protecting resources, and disallowing public use would remain unchanged.

Wolf Island National Wildlife Refuge, as a designated National Wilderness Area, provides protection for threatened and endangered species, including the loggerhead sea turtle and the piping plover. Due to its status as a Wilderness Area, no public use facilities exist or are planned on the refuge. Although the waters surrounding the refuge are open to a variety of recreational activities, all beach, marsh, and upland areas are closed to the public. Under this alternative, none of the above would change. Current management practices, which are primarily custodial in nature, would continue.

Alternative B—Optimize Biological Program

Under Alternative B, the refuge would strive to optimize its biological program, recognizing that there may be tradeoffs and opportunity costs between the various elements of the biological programs envisioned. Alternative B stresses the principle of optimization rather than maximization of wildlife and habitat outputs.

The refuge would conduct baseline inventorying and monitoring programs with several partners to provide a solid foundation of the current condition of refuge habitat and wildlife. We would continue to furnish benefits to migratory birds and resident wildlife species. We would aim to increase the refuge's knowledge base about shorebirds by developing and implementing monitoring programs while continuing to provide habitats for the benefit of migratory birds. The refuge would also continue to furnish benefits to federally threatened and endangered species.

Land acquisition and resource protection efforts at Wolf Island National Wildlife Refuge would be intensified. Efforts to control invasive species would commence and efforts would be made to reduce beach erosion. In the Service's Private Lands Program, staff would work with private landowners of adjacent properties to manage and improve habitats. Staff would also explore opportunities with partners to expand land and habitat protection efforts.

The refuge would develop and begin to implement a Cultural Resources Management Plan (CRMP). Until such time as the CRMP is completed and implemented, the refuge would follow standard Service protocols and procedures in conducting cultural resource surveys by qualified professionals in consultation with the Regional Historic Preservation Officer (RHPO) and the State Historic Preservation Officer (SHPO).

Alternative C—Ecosystem Management (Proposed Action)

Under Alternative C, the refuge would practice ecosystem management, recognizing the ecological role of Wolf Island National Wildlife Refuge within the interrelated Altamaha River Basin and coastal barrier island ecosystem. Human activities and natural processes within these ecosystems influence the refuge in a variety of ways. Alternative C explicitly commits the Service to acknowledge these influences and cooperate with other stakeholders in ways that will ensure the continued protection and enhancement of the ecosystem's natural resources.

As with Alternative B, the refuge would strive to optimize its biological program, recognizing that there may be tradeoffs and opportunity costs between the various elements of the biological programs envisioned. However, Alternative C emphasizes a broader ecosystem approach than Alternative B, which is narrowly focused on the refuge.

The refuge would conduct baseline inventorying and monitoring programs with several partners to investigate threats and opportunities within the ecosystem as they may impact refuge goals and objectives. The Service and our partners would continue to furnish benefits to the ecosystem's native flora and fauna under Alternative C. The refuge would also continue to furnish benefits to federally threatened and endangered species.

Under Alternative C, land acquisition and resource protection within the ecosystem would be intensified. Control of invasive species would commence and efforts would be made to reduce beach erosion. Service staff would work with partners to manage and improve habitats within the ecosystem. Staff would also explore opportunities with partners to expand land and habitat protection efforts.

The refuge would develop and begin to implement a CRMP. Until such time as the CRMP is completed and implemented, the refuge would follow standard Service protocol and procedures in conducting cultural resource surveys by qualified professionals in consultation with the RHPO and the SHPO.

Next Step

After the comment period ends, we will analyze the comments and address them in the form of a final CCP and Finding of No Significant Impact.

Public Availability of Comments

Before including your address, phone number, e-mail address, or other personal identifying information in your comment, you should be aware that your entire comment—including your personal identifying information—may be made publicly available at any time. While you can ask us in your comment to withhold your personal identifying information from public review, we cannot guarantee that we will be able to do so.

Authority: This notice is published under the authority of the National Wildlife Refuge System Improvement Act of 1997, Public Law 105-57.

Dated: April 24, 2008.
Cynthia K. Dohner,
Acting Regional Director.

[FR Doc. E8-13166 Filed 6-11-08; 8:45 am]

BILLING CODE 4310-55-P